DEPARTMENT OF HEALTH AND HUMAN SERVICES

Health Resources and Services Administration

Advisory Commission on Childhood Vaccines; Notice of Meeting

In accordance with section 10(a) (2) of the Federal Advisory Committee Act (Pub. L. 92-463), notice is hereby given of the following meeting:

Name: Advisory Commission on Childhood Vaccines (ACCV).

Date and Time: November 10, 2004, 9 a.m.-2:30 p.m., e.d.t.

Place: Audio Conference Call and Parklawn Building, Conference Rooms G & H, 5600 Fishers Lane, Rockville, MD 20857.

The full ACCV will meet on Wednesday, November 10, from 9 a.m. to 2:30 p.m. The public can join the meeting in person at the address listed above or by audio conference call by dialing 1-888-730-9135 on November 10 and providing the following information:

Leader's Name: Joyce Somsak.

Password: ACCV.

Agenda: The agenda items for November will include, but are not limited to: An update on changing the Vaccine Injury Table; an overview of the National Vaccine Program Office's Public Participating Workgroup Meeting: Meeting on Models for Enhancing Public Involvement; and updates from the Division of Vaccine Injury Compensation, the Department of Justice, and the National Vaccine Program Office. Agenda items are subject to change as priorities dictate.

Public Comments: Persons interested in providing an oral presentation should submit a written request, along with a copy of their presentation to: Ms. Cheryl Lee, Principal Staff Liaison, Division of Vaccine Injury Compensation, Healthcare Systems Bureau, Health Resources and Services Administration, Room 11C-26, 5600 Fishers Lane, Rockville, MD 20857 or e-mail clee@hrsa.gov. Requests should contain the name, address, telephone number, and any business or professional affiliation of the person desiring to make an oral presentation. Groups having similar interests are requested to combine their comments and present them through a single representative. The allocation of time may be adjusted to accommodate the level of expressed interest. The Division of Vaccine Injury Compensation will notify each presenter by mail or telephone of their assigned presentation time. Persons who do not file an advance request for a presentation, but desire to make an oral statement, may announce it at the time of the comment period. These persons will be allocated time as time permits.

FOR FURTHER INFORMATION CONTACT: Anyone requiring information regarding the ACCV should contact Ms. Cheryl Lee, Principal Staff Liaison, Division of Vaccine Injury Compensation, Healthcare Systems Bureau, Health Resources and Services Administration, Room 11C-26, 5600 Fishers Lane, Rockville, Maryland 20857; telephone (301) 443-2124 or e-mail clee@hrsa.gov.

Dated: October 26, 2004.
Tina M. Cheatham,
Director, Division of Policy Review and Coordination.

[FR Doc. 04-24307 Filed 10-29-04; 8:45 am]

BILLING CODE 4165-15-P